DEPARTMENT OF TRANSPORTATION

Federal Aviation Administration

14 CFR Part 39

[Docket No. FAA-2015-0633; Directorate Identifier 2015-CE-005-AD; Amendment 39-18121; AD 2015-06-03]

RIN 2120-AA64

Airworthiness Directives; Stemme AG Gliders

AGENCY: Federal Aviation Administration (FAA), DOT.

ACTION: Final rule; request for comments.

SUMMARY: We are adopting a new airworthiness directive (AD) for Stemme AG TSA-M Models S6 and S6-RT gliders. This AD results from mandatory continuing airworthiness information (MCAI) issued by the aviation authority of another country to identify and correct an unsafe condition on an aviation product. The MCAI describes the unsafe condition as a bending defect of the fork head installed in the aileron, speed brake, and flap control systems. We are issuing this AD to require actions to address the unsafe condition on these products.

DATES: This AD is effective March 24, 2015.

We must receive comments on this AD by May 4, 2015.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For information concerning this action, contact Stemme AG, Flugplatzstraße F2, Nr. 6-7, D-15344 Strausberg, Germany; phone: +49 (0) 3341/3612 0; fax: none; email: info@stemme.de; internet: www.stemme.info.

Examining the AD Docket

You may examine the AD docket on the Internet at http://www.regulations.gov by searching for and locating Docket No. FAA-2015-0633; or in person at the Docket Management Facility between 9 a.m. and 5 p.m., Monday through Friday, except Federal holidays. The AD docket contains this AD, the regulatory evaluation, any comments received, and other information. The street address for the Docket Office (telephone (800) 647-5527) is in the ADDRESSES section. Comments will be available in the AD docket shortly after receipt.

FOR FURTHER INFORMATION CONTACT: Jim Rutherford, Aerospace Engineer, FAA, Small Airplane Directorate, 901 Locust, Room 301, Kansas City, Missouri 64106; telephone: (816) 329-4165; fax: (816) 329-4090; email: jim.rutherford@faa.gov.

SUPPLEMENTARY INFORMATION:

Discussion

The European Aviation Safety Agency (EASA), which is the Technical Agent for the Member States of the European Community, has issued AD No.: 2015-0034-E, dated February 27, 2015, (referred to after this as “the MCAI”), to correct an unsafe condition for the specified products. The MCAI states:

A report was received concerning a broken fork head, installed in the speed brake control circuit of a TSA-M Model S6-RT powered sailplane. Preliminary investigation results revealed additional cases of bending defect of the same part, which were installed in the aileron and flaps control systems of the TSA-M type design. The same fork heads are also installed in the control systems of ASP Model S15-1 aeroplanes.

This condition, if not corrected, could lead to failure of the flight control system, possibly resulting in loss of control of the aeroplane.

For the reasons described above, this AD prohibits the operation of the affected aeroplanes pending the availability of a modification of the affected flight control systems in accordance with approved instructions.

This AD is a temporary measure and further AD action may follow. You may examine the MCAI on the Internet at http://www.regulations.gov by searching for and locating Docket No. FAA-2015-0633.

FAA's Determination and Requirements of the AD

This product has been approved by the aviation authority of another country, and is approved for operation in the United States. Pursuant to our bilateral agreement with this State of Design Authority, they have notified us of the unsafe condition described in the MCAI and service information referenced above. We are issuing this AD because we evaluated all information provided by the State of Design Authority and determined the unsafe condition exists and is likely to exist or develop on other products of the same type design.

FAA's Determination of the Effective Date

An unsafe condition exists that requires the immediate adoption of this AD. The FAA has found that the risk to the flying public justifies waiving notice and comment prior to adoption of this rule because a bending defect of the fork head could lead to failure of the flight control system, possibly resulting in loss of control. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2015-0633; Directorate Identifier 2015-CE-005-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect 6 products of U.S. registry.

At the time of issuance of this AD, no design solution is available to restore the airworthiness of the respective type designs to a level corresponding to their approved type design specifications. Therefore, the FAA cannot determine the cost of returning the affected gliders to service.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2015-06-03 Stemme AG: Amendment 39-18121; Docket No. FAA-2015-0633; Directorate Identifier 2015-CE-005-AD.

(a) Effective Date

This airworthiness directive (AD) becomes effective March 24, 2015.

(b) Affected ADs

None.

(c) Applicability

This AD applies to Stemme AG TSA-M Models S6 and S6-RT gliders, all serial numbers, certificated in any category.

(d) Subject

Air Transport Association of America (ATA) Code 27: Flight Controls.

(e) Reason

This AD was prompted by mandatory continuing airworthiness information (MCAI) originated by an aviation authority of another country to identify and correct an unsafe condition on an aviation product. The MCAI describes the unsafe condition as a bending defect of the fork head installed in the aileron, speed brake, and flap control systems. We are issuing this AD to detect and correct the bending defect of the fork head that could result in failure of the flight control system, possibly resulting in loss of control.

(f) Actions and Compliance

Unless already done, before further flight, after March 24, 2015 (the effective date of this AD), modify the affected flight control systems, or take other actions, following a method approved specifically for this AD by the FAA, Small Airplane Directorate. Contact Stemme AG to obtain FAA-approved repair instructions approved specifically for compliance with this AD and incorporate those instructions. You can find contact information for Stemme AG in paragraph (i)(2) of this AD.

Note 1 to paragraph (f) of this AD: At the time of issuance of this AD, no design solution is available to restore the airworthiness of the respective type designs to a level corresponding to their approved type design specifications.

(g) Other FAA AD Provisions

The following provisions also apply to this AD:

(1) Alternative Methods of Compliance (AMOCs): The Manager, Standards Office, FAA, has the authority to approve AMOCs for this AD, if requested using the procedures found in 14 CFR 39.19. Send information to ATTN: Jim Rutherford, Aerospace Engineer, FAA, Small Airplane Directorate, 901 Locust, Room 301, Kansas City, Missouri 64106; telephone: (816) 329-4165; fax: (816) 329-4090; email: jim.rutherford@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Special Flight Permit

Special flight permits are prohibited.

(i) Related Information

(1) Refer to MCAI European Aviation Safety Agency (EASA) AD No.: 2015-0034-E, dated February 27, 2015, for related information. You may examine the MCAI on the Internet at http://www.regulations.gov by searching for and locating Docket No. FAA-2015-0633.

(2) For information concerning this action, contact Stemme AG, Flugplatzstraße F2, Nr. 6-7, D-15344 Strausberg, Germany; phone: +49 (0) 3341/3612 0; fax: none; email: info@stemme.de; internet: www.stemme.info.

Issued in Kansas City, Missouri, on March 12, 2015.
Robert Busto,
Acting Manager, Small Airplane Directorate, Aircraft Certification Service.

[FR Doc. 2015-06296 Filed 3-18-15; 8:45 am]

BILLING CODE 4910-13-P